ENVIRONMENTAL PROTECTION AGENCY

[FRL-9917-89-OEI; EPA-HQ-OEI-2013-0752]

Amendment of the External Compliance Program Discrimination Complaint Files, EPA-21

AGENCY: Environmental Protection Agency.

ACTION: Notice.

SUMMARY: Pursuant to the provisions of the Privacy Act of 1974 (5 USC 552a), the Environmental Protection Agency (EPA) is giving notice that it is amending the External Compliance Program Discrimination Complaint Files system of records. The system is being amended to change the (1) system name; (2) addresses of system locations and system managers; (3) categories of individuals covered by the system; (4) routine uses; and (5) storage, retrievability and safeguard requirements.

DATES: Persons wishing to comment on this system of records notice must do so by December 3, 2014.

ADDRESSES: Submit your comments, identified by Docket ID No. EPA-HQ-OEI-2013-0752, by one of the following methods:

• www.regulations.gov: Follow the online instructions for submitting comments.

• Email: oei.docket@epa.gov.

• Fax: 202-566-1752.

• Hand Delivery: OEI Docket, EPA/DC, WJC West Building, Room 3334, 1301 Constitution Ave. NW., Washington, DC. Such deliveries are only accepted during the docket's normal hours of operation, and special arrangements should be made for deliveries.

Instructions: Direct your comments to Docket ID No. EPA-HQ-OEI-2013-0752. The EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment, and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at: http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically at www.regulations.gov or in hard copy at the OEI Docket, EPA/DC, WJC West Building, Room 3334, 1301 Constitution Ave. NW., Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Samuel Peterson, Equal Opportunity Investigator, (202) 564-5393.

SUPPLEMENTARY INFORMATION:

General Information:

The U.S. Environmental Protection Agency (EPA) has created a Privacy Act system of records for the External Compliance Program Discrimination Complaint Files system. The External Compliance Program Discrimination Complaint Files system has been developed to provide the Office of Civil Rights (OCR) with the ability to more effectively manage its program information needs and to integrate the office's various business processes. The External Compliance Program Discrimination Complaint Files system supports the collection of compliance-related data and other information needed by OCR to complete compliance activities and issue determinations. The External Compliance Program Discrimination Complaint Files system has been renamed the Title VI External Compliance Case Tracking System. The system of records is also being amended to more accurately describe the scope of the system of records and to reflect current storage, retrievability, safeguards and other changes that have occurred since the original system of records notice was published in January 2006. In addition, there have been changes to routine uses and the addresses of system locations and system managers.

Access to the records in this system is limited to OCR employees whose official duties require using the information. Specific access is based on need and is determined by the user's role in the organization. Access is managed through the use of electronic control lists which regulate the ability to read, change and delete information in the system. System users have read-only access to designated information in the system with the ability to only modify their own submissions and those of others within their region or group. Access to confidential information is limited. The system maintains an audit trail of all actions taken in the database. All electronic data are stored on servers maintained in locked facilities with computerized access control. The server facility has appropriate environmental security controls, including measures to mitigate damage to automated information system resources caused by fire, electricity, water and inadequate climate controls. Access to servers, individual computers and databases requires a user log-on with a password. The same access controls apply to remote users. System administrators have appropriate security clearances. Printed materials are filed in secure cabinets in secure federal facilities with access based on need, as described above, for the automated component of the system.

FOR FURTHER INFORMATION CONTACT: Helena Aguilar, Acting Deputy Director, EPA OCR, 1200 Pennsylvania Avenue NW., Washington, DC 20460, Mail Code 1201A, or by email at wooden-aguilar.helena@epa.gov.

Dated: September 23, 2014.
Renee P. Wynn,
Acting Assistant Administrator and Chief Information Officer.

EPA-21

System Name:

The External Compliance Program Discrimination Complaint Files (the name is being amended to the Title VI External Compliance Case Tracking System).

System Location:

The system is currently hosted under a contract within Micropact, Inc., located at 107 Carpenter Drive, Suite 140, Sterling, Virginia 20164.

Categories of Individuals Covered by the System:

Individuals who have filed, or had filed on their behalf, discrimination complaints regarding recipients of federal financial assistance on the basis of race, color, national origin, age, sex, or disability.

Categories of Records in the System:

Letters or other documents initiating discrimination complaints, correspondence, internal memoranda and notes pertaining to the complaints; investigative reports and findings on the complaints and related information regarding the complaints and investigations. A computerized case index includes cases by number, complainants (not all complainants are identified because there are sometimes multiple complainants in a single case) and recipients. Systemic civil rights compliance reviews of recipients of federal assistance; information on recipient employees, contractors or education instructor volunteers, as contained in documents provided by recipients; medical information; eligibility determinations impacting complainants, witnesses or other parties; administrative subpoena files; staff interviews; self-evaluation plans; records of physical or mental impairments; racial/ethnic analyses of workforce and program enrollees; sanction hearings; notice of violations; language assistance plans; recipient staff interviews and interviews with members of the public; appeal files; training programs; civil enforcement files; environmental policies and program files. Any and all information contained on private individuals, as described above, contained in records of accessibility or other civil rights reviews that may pertain to facilities funded by federal financial assistance from the EPA.

Authority for Maintenance of the System, Including Categories of Users, and the Purpose(s):

Title VI of the Civil Rights Act of 1964, 42 U.S.C. 2000d et seq.; Tile IX of the Education Amendments of 1972, 20 U.S.C. 1681 et seq.; Section 504 of the Rehabilitation Act of 1973, 29 U.S.C. 794; Federal Water Pollution Control Act Amendments of 1972 (Pub. L. 92-500, section 13), 33 U.S.C. 1251 note; Title III of the Age Discrimination Act of 1975, 42 U.S.C. 6101 et seq.); Title VIII of the Federal Fair Housing Act (42 U.S.C. 3601); Executive Orders 11246 (Sept. 24, 1965), 12250 (Nov. 2, 1980) and 12892 (Jan. 17, 1994); 40 CFR part 7.

Purpose(s):

To support and enhance the discrimination complaint process, including the investigation and resolution of complaints, and to assure recipient compliance with the nondiscrimination laws of federal financial assistance.

Routine Uses of Records Maintained in the System, Including Categories of Users, and the Purposes of Such Uses:

General Routine Uses A, C, D, E, F, G, H, I, K and L apply to this system. Records may also be disclosed to:

1. The Department of Justice or other federal and state agencies when necessary to complete an investigation, enforce the nondiscrimination statutes set forth in the Authority section of this notice, or assure proper coordination between federal agencies.

2. Persons named as alleged discriminators to allow such persons the opportunity to respond to the allegations made against them during the course of the discrimination complaint process.

3. Any potential source of information when necessary to obtain information relevant to an OCR investigation of a discrimination complaint, but only to the extent necessary to inform the source of the purpose(s) of the request and to identify the type of information requested.

Policies and Practices for Storing, Retrieving, Accessing, Retaining, and Disposing of Records in the System:

• Storage: All electronic data are stored on servers maintained in locked facilities with computerized access control and all printed materials are filed in secure cabinets in secure federal facilities with access based on need.

• Retrieving: These records can be retrieved by name, case file number, or other unique identifiers.

• Safeguards: Computer records are maintained in a secure, password-protected computer system. Paper records are maintained in lockable file cabinets. All records are maintained in secure, access controlled areas or buildings.

• Retention and Disposal: Records stored in this system are subject to EPA's records schedule 497.

System Manager(s) and Address:

Associate Director, Complaints Resolution and External Compliance Staff, Office of Civil Rights, Environmental Protection Agency, 1200 Pennsylvania Avenue NW., Mail Code 1201A, Washington, DC 20460.

Notification Procedures:

Any individual who wants to know whether this system of records contains a record about himself/herself, who wants access to his/her record, or who wants to contest the contents of a record, should submit a written request to the EPA FOIA Office, Attn: Privacy Act Officer, WJC West, MC2822T, 1200 Pennsylvania Ave. NW., Washington, DC 20460.

Record Access Procedure:

Individuals seeking access to their own personal information in this system of records will be required to provide adequate identification (e.g., driver's license, military identification card, employee badge or identification card and, if necessary, proof of authority). Additional identity verification procedures may be required as warranted. Requests must meet the requirements of EPA regulation 40 CFR part 16.

Contesting Records Procedure:

Requests for correction or amendment must identify the record to be changed and the corrective action sought. Complete EPA Privacy Act procedures are described in EPA's Privacy Act regulations 40 CFR part 16.

Records Source Categories:

Complainants, recipients, witnesses, EPA investigators and/or contract investigators, other EPA personnel, and other persons with information relevant to the case.

Systems Exempted From Certain Provisions of the Act:

Pursuant to 5 U.S.C. 552a(k)(2), this system is exempt from the following provisions of the Privacy Act of 1974, subject to the limitations set forth in subsection: 5 U.S.C. 552a(c)(3), (d), and (e)(1).

[FR Doc. 2014-25417 Filed 10-23-14; 8:45 am]

BILLING CODE 6560-50-P